DEPARTMENT OF DEFENSE

GENERAL SERVICES ADMINISTRATION

NATIONAL AERONAUTICS AND SPACE ADMINISTRATION

48 CFR Part 52

Solicitation Provisions and Contract Clauses

CFR Correction

In Title 48 of the Code of Federal Regulations, Chapter I (Parts 52 to 99), revised as of October 1, 2006, on page 80, in section 52.215-15, correct paragraph (b) and the source note to read as follows:

52.215-15 Pension adjustments and asset reversions.

* * * * *

(b) For segment closings, pension plan terminations, or curtailment of benefits, the amount of the adjustment shall be—

(1) For contracts and subcontracts that are subject to full coverage under the Cost Accounting Standards (CAS) Board rules and regulations (48 CFR Chapter 99), the amount measured, assigned, and allocated in accordance with 48 CFR 9904.413-50(c)(12); and

(2) For contracts and subcontracts that are not subject to full coverage under the CAS, the amount measured, assigned, and allocated in accordance with 48 CFR 9904.413-50(c)(12), except the numerator of the fraction at 48 CFR 9904.413-50(c)(12)(vi) shall be the sum of the pension plan costs allocated to all non-CAS covered contracts and subcontracts that are subject to Federal Acquisition Regulation (FAR) Subpart 31.2 or for which cost or pricing data were submitted.

* * * * *

[63 FR 58598, Oct. 30, 1998, as amended at 68 FR 69257, Dec. 11, 2003; 69 FR 59704, Oct. 5, 2004; 69 FR 60967, Oct. 14, 2004]

[FR Doc. 07-55518 Filed 9-27-07; 8:45 am]

BILLING CODE 1505-01-D